DEPARTMENT OF TRANSPORTATION

Federal Railroad Administration

[Docket Number FRA-2003-15010]

Petition for Waiver of Compliance

Under part 211 of title 49 Code of Federal Regulations (CFR), this document provides the public notice that on May 19, 2020, Canadian Pacific Railway Company (CP) petitioned the Federal Railroad Administration (FRA) to modify a waiver of compliance from certain provisions of the Federal railroad safety regulations contained at 49 CFR part 241, United States Locational Requirement for Dispatching of United States Rail Operations. FRA assigned the petition Docket Number FRA-2003-15010.

Specifically, CP requests relief from 49 CFR 241.7(c), Fringe border dispatching, which would allow Canadian dispatching from CP's Operations Center located in Calgary, Alberta, Canada (CP Calgary OC) for the recently acquired Central Maine and Québec Railway (CMQR) track segments on the Newport Subdivision within the U.S. The Newport Subdivision starts near Brookport, Quebec, Canada, and ends near Newport, Vermont, U.S., crossing the U.S./Canada border at three separate locations. In Canada, the Newport Subdivision connects to CMQR's Adirondack and Sherbrooke Subdivisions in Brookport, Quebec, Canada. This relief would apply to two track segments totaling 23.44 miles of the CMQR Newport Subdivision within the U.S.

In support of its petition, CP states that all trains operated in the U.S. will be under the control of a single crew, barring unforeseen circumstances, and that dispatching will be provided by train dispatchers that are bilingual in French and English to allow train crews to communicate with dispatchers in their primary language. CP also explains that dispatching will be transferred to a U.S. carrier at the point or yard where the interchange takes place. It further states that allowing the U.S. track segments of the Newport Subdivision to be under the control of the same operations center would allow for consistent procedures and oversight for the involved crews and train operations.

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by July 20, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-12009 Filed 6-3-20; 8:45 am]

BILLING CODE 4910-06-P